FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 008493-028.

Title: Trans-Pacific American Flag Berth Operators Agreement.

Parties: American President Lines, Ltd., A.P. Moller Maersk A/S; and Maersk Line Limited.

Filing Party: Howard A. Levy, Esq.; 80 Wall Street, Suite 1117; New York, NY 10005-3602.

Synopsis: The amendment deletes the reference to Maersk Line Limited from the agreement.

Agreement No.: 010714-045.

Title: Trans-Atlantic American Flag Liner Operators Agreement.

Parties: A.P. Moller Maersk A/S; American President Lines, Ltd.; American Roll-On Roll-Off Carrier, LLC; Hapag-Lloyd USA, LLC.; and Maersk Line Limited.

Filing Party: Howard A. Levy, Esq.; 80 Wall Street, Suite 1117; New York, NY 10005.

Synopsis: The amendment deletes the reference to Maersk Line Limited from the Agreement.

Agreement No.: 012042-006.

Title: MOL/ELJSA Slot Exchange Agreement.

Parties: Evergreen Line Joint Service Agreement and Mitsui O.S.K. Lines, Ltd.

Filing Party: Robert B. Yoshitomi, Esq.; Nixon Peabody, LLP; Gas Company Tower; 555 West Fifth Street 46th Floor; Los Angeles, CA 90013.

Synopsis: The amendment adds a new service between Vietnam, China Singapore, Spain, Morocco and the U.S. East Coast and modifies the number of slots to be exchanged in other existing services.

Agreement No.: 012165.

Title: MOL/APL/HMM Asia/USEC Slot Charter Agreement.

Parties: Mitsui O.S.K. Lines, Ltd.; APL Co. Pte Ltd and American Presidents Lines Ltd. (collectively APL); and Hyundai Merchant Marine Co., Ltd.

Filing Party: Robert B. Yoshitomi, Esq., Nixon Peabody LLP, Gas Company Tower, 555 West Fifth Street 46th Floor, Los Angeles, CA 90013.

Synopsis: The agreement authorizes MOL to charter space to APL and HMM on certain vessels MOL operates or on which MOL has space in connection with the carriage of cargo between Vietnam, China, Singapore, and the U.S. East Coast.

Agreement No.: 012166.

Title: MOL/Hanjin Space Charter Agreement.

Parties: Mitsui O.S.K. Lines, Ltd. and Hanjin Shipping Co., Ltd.

Filing Party: Robert B. Yoshitomi, Esq., Nixon Peabody LLP, Gas Company Tower, 555 West Fifth Street 46th Floor, Los Angeles, CA 90013.

Synopsis: The agreement would authorize MOL and Hanjin to charter space on their respective vessels in connection with the carriage of cargo between China, Korea, Vietnam, Singapore, Sri Lanka, Egypt, the United Arab Emirates, Spain, Morocco, and the U.S. East Coast.

Agreement No.: 012167.

Title: KL/PIL Space Charter and Sailing Agreement.

Parties: Kawasaki Kisen Kaisha, Ltd. and Pacific International Lines (PTE) Ltd.

Filing Party: Robert B. Yoshitomi, Esq., Nixon Peabody LLP, Gas Company Tower, 555 West Fifth Street 46th Floor, Los Angeles, CA 90013.

Synopsis: The agreement authorizes K Line and PIL to charter space on their respective vessels, coordinate their sailings, and cooperate in the carriage of cargo between China and the U.S. West Coast.

By Order of the Federal Maritime Commission.
Dated: April 20, 2012.
Rachel E. Dickon,
Assistant Secretary.

[FR Doc. 2012-9986 Filed 4-24-12; 8:45 am]

BILLING CODE 6730-01-P